DEPARTMENT OF COMMERCE

International Trade Administration

[A-570-945, C-570-946]

Prestressed Concrete Steel Wire Strand From the People's Republic of China: Continuation of Antidumping and Countervailing Duty Orders

AGENCY: Enforcement and Compliance, International Trade Administration, Department of Commerce.

SUMMARY: As a result of the determinations by the Department of Commerce (Commerce) and the International Trade Commission (ITC) that revocation of the antidumping duty (AD) and countervailing duty (CVD) orders on prestressed concrete steel wire strand (PC strand) from the People's Republic of China (China) would likely lead to a continuation or recurrence of dumping, net countervailable subsidies, and material injury to an industry in the United States, Commerce is publishing a notice of continuation of the AD and CVD orders.

DATES: Applicable Date: Applicable May 10, 2021.

FOR FURTHER INFORMATION CONTACT: Emily Halle (AD Order) or John Hoffner (CVD Order), AD/CVD Operations, Enforcement and Compliance, International Trade Administration, U.S. Department of Commerce, 1401 Constitution Avenue NW, Washington, DC 20230; telephone: (202) 482-0176 or (202) 482-3315, respectively.

SUPPLEMENTARY INFORMATION:

Background

On September 1, 2020, the ITC instituted,¹ and Commerce initiated,² the second sunset reviews of the AD and CVD orders on PC strand from China,³ pursuant to section 751(c) of the Tariff Act of 1930 as amended (the Act). As a result of its reviews, Commerce determined that revocation of the Orders would likely lead to continuation or recurrence of dumping and of net countervailable subsidies and, therefore, Commerce notified the ITC of the magnitude of the margin of dumping and subsidy rates likely to prevail should the Orders be revoked, pursuant to sections 751(c)(1) and 752(b) and (c) of the Act.⁴

¹ See Prestressed Concrete Steel Wire Strand from China; Institution of Five-Year Reviews, 85 FR 54401 (September 1, 2020).

² See Initiation of Five-Year (Sunset) Reviews, 85 FR 54348 (September 1, 2020).

³ See Notice of Antidumping Duty Order: Prestressed Concrete Steel Wire Strand from the People's Republic of China, 75 FR 37382 (June 29, 2010); and Prestressed Concrete Steel Wire Strand from the People's Republic of China: Notice of Amended Final Affirmative Countervailing Duty Determination and Notice of Countervailing Duty Order, 75 FR 38977 (July 7, 2010) (collectively, Orders).

⁴ See Prestressed Concrete Steel Wire Strand from the People's Republic of China: Final Results of the Expedited Second Sunset Review of the Antidumping Duty Order, 85 FR 86908 (December 31, 2020); and Final Results of Expedited Sunset Review of Countervailing Duty Order: Prestressed Concrete Steel Wire Strand From the People's Republic of China, 86 FR 86904 (December 31, 2020).

On May 4, 2021, the ITC published its determination, pursuant to sections 751(c) and 752(a) of the Act, that revocation of the Orders would likely lead to continuation or recurrence of material injury to an industry in the United States within a reasonably foreseeable time.⁵

⁵ See Prestressed Concrete Steel Wire Strand from China, 86 FR 23739 (May 4, 2021).

Scope of the Orders

The product covered by the Orders is PC strand, produced from wire of non-stainless, non-galvanized steel, which is suitable for use in prestressed concrete (both pretensioned and post-tensioned) applications. The product definition encompasses covered and uncovered strand and all types, grades, and diameters of PC strand. PC strand is normally sold in the United States in sizes ranging from 0.25 inches to 0.70 inches in diameter. PC strand made from galvanized wire is only excluded from the scope if the zinc and/or zinc oxide coating meets or exceeds the 0.40 oz./ft2 standard set forth in ASTM-A-475. Imports of the subject merchandise are currently classifiable under subheadings 7312.10.3010 and 7312.10.3012 of the Harmonized Tariff Schedule of the United States (HTSUS). Although the HTSUS subheadings are provided for convenience and customs purposes, the written description of the scope of these orders is dispositive.

Continuation of the Orders

As a result of the determinations by Commerce and the ITC that revocation of the Orders would likely lead to a continuation or a recurrence of dumping and net countervailable subsidies, as well as material injury to an industry in the United States, pursuant to section 751(d)(2) of the Act and 19 CFR 351.218(a), Commerce hereby orders the continuation of the Orders on PC strand from China.

U.S. Customs and Border Protection will continue to collect AD and CVD cash deposits at the rates in effect at the time of entry for all imports of subject merchandise. The effective date of the continuation of the Orders will be the date of publication in the Federal Register of this notice of continuation. Pursuant to section 751(c)(2) of the Act and 19 CFR 351.218(c)(2), Commerce intends to initiate the next five-year reviews of the Orders not later than 30 days prior to the fifth anniversary of the effective date of continuation.

Notification to Interested Parties

These five-year sunset reviews and this notice are in accordance with sections 751(c) and 751(d)(2) of the Act and published in accordance with section 777(i)(1) of the Act and 19 CFR 351.218(f)(4).

Dated: May 4, 2021.
Christian Marsh,
Acting Assistant Secretary for Enforcement and Compliance.

[FR Doc. 2021-09841 Filed 5-7-21; 8:45 am]

BILLING CODE 3510-DS-P